INTERNATIONAL TRADE COMMISSION

[Investigation No. 337-TA-980]

Certain Rack Mountable Power Distribution Units; Institution of Investigation

AGENCY: U.S. International Trade Commission.

ACTION: Notice.

SUMMARY: Notice is hereby given that a complaint was filed with the U.S. International Trade Commission on December 8, 2015, under section 337 of the Tariff Act of 1930, as amended, 19 U.S.C. 1337, on behalf of Server Technology, Inc. of Reno, Nevada. The complaint alleges violations of section 337 based upon the importation into the United States, the sale for importation, and the sale within the United States after importation of certain rack mountable power distribution units by reason of infringement of certain claims of U.S. Patent No. 7,162,521 (“the `521 patent”), U.S. Patent No. 7,400,493 (“the `493 patent”), U.S. Patent No. 7,414,329 (“the `329 patent”), U.S. Patent No. 7,447,002 (“the `002 patent”), U.S. Patent No. 7,567,430 (“the `430 patent”), U.S. Patent No. 7,706,134 (“the `134 patent”), U.S. Patent No. 8,541,906 (“the `906 patent”), U.S. Patent No. 8,541,907 (“the `907 patent”), U.S. Patent No. 8,601,291 (“the `291 patent”), and U.S. Patent No. 8,694,272 (“the `272 patent”), and that an industry in the United States exists as required by subsection (a)(2) of section 337.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Secretary, Docket Services Division, U.S. International Trade Commission, telephone (202) 205-1802.

Authority: The authority for institution of this investigation is contained in section 337 of the Tariff Act of 1930, as amended, and in section 210.10 of the Commission's Rules of Practice and Procedure, 19 CFR 210.10 (2015).

Scope of Investigation: Having considered the complaint, the U.S. International Trade Commission, on January 6, 2016, ordered that—

(1) Pursuant to subsection (b) of section 337 of the Tariff Act of 1930, as amended, an investigation be instituted to determine whether there is a violation of subsection (a)(1)(B) of section 337 in the importation into the United States, the sale for importation, or the sale within the United States after importation of certain rack mountable power distribution units by reason of infringement of one or more of claims 1, 2, 5-8, 16, 17, 19-23, 31, and 32-33 of the `521 patent; claims 1, 2-3, 5-6, 9-11, and 18-21 of the `493 patent; claims 1, 2-5, 10, 11-14, 19, and 20-21 of the `329 patent; claims 1, 2-4, 7-10, 12-14, 16, and 17 of the `002 patent; claims 1, 3-4, 6, 7, 10, 11, 12, 14, 16, 19, 20, 21, 22, 25, 26, 27, 30, and 31 of the `430 patent; claims 1, 2-6, 8, 9, 10, 12, 13, 14-16, 19-21, and 22 of the `134 patent; claims 1, 2-4, and 6-9 of the `906 patent; claims 1, 2, 4-8, 9, 10, 12-16, 17, 18-22, 23, and 24-27 of the `907 patent; claims 1, 2-6, 7, 8-9, 13, and 18 of the `291 patent; claims 1, 2-6, 10-11, and 19 of the `272 patent; and whether an industry in the United States exists as required by subsection (a)(2) of section 337;

(2) For the purpose of the investigation so instituted, the following are hereby named as parties upon which this notice of investigation shall be served:

(a) The complainants are:

Server Technology, Inc., 1040 Sandhill Road, Reno, NV 89521.

(b) The respondents are the following entities alleged to be in violation of section 337, and are the parties upon which the complaint is to be served:

Raritan Americas, Inc., 400 Cottontail Lane, Somerset, NJ 08873.

Legrand North America, 60 Woodlawn Street, West Hartford, CT 06110.

Legrand SA, 128 Avenue du Maréchal de Lattre, de Tassigny, 87045 Limoges cedex, France.

(3) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 6, 2016.
Lisa R. Barton,
Secretary to the Commission.

[FR Doc. 2016-00314 Filed 1-11-16; 8:45 am]

BILLING CODE 7020-02-P